DEPARTMENT OF THE INTERIOR

Bureau of Indian Affairs

Final Programmatic Environmental Impact Statement for the Proposed Navajo Ten-Year Forest Management Plan, Navajo Nation, Arizona/New Mexico

AGENCY: Bureau of Indian Affairs, Interior.

ACTION: Correction to Notice.

SUMMARY: This notice corrects the closing date for the public comment period published in the Federal Register on April 14, 2000 (65 FR 20197), for the Final Programmatic Environmental Impact Statement for the Proposed Navajo Ten-Year Forest Management Plan, Navajo Nation, Arizona/New Mexico. The closing date is changed from June 15, 2000 to May 15, 2000. All other information published in the April 14, 2000 notice remains unchanged.

DATES: The correct date by which written comments must arrive is May 15, 2000.

FOR FURTHER INFORMATION CONTACT: Harold D. Russell, 520-729-7228.

Dated: May 8, 2000.
Kevin Gover,
Assistant Secretary—Indian Affairs.

[FR Doc. 00-12087 Filed 5-11-00; 8:45 am]

BILLING CODE 4310-02-P